OFFICE OF MANAGEMENT AND BUDGET

Office of Federal Procurement Policy

DEPARTMENT OF DEFENSE

GENERAL SERVICES ADMINISTRATION

NATIONAL AERONAUTICS AND SPACE ADMINISTRATION

48 CFR Parts 11, 12, and 52

[FAR Case 2025-006, Docket No. FAR-2025-0006, Sequence No. 1]

RIN 9000-AO79

Federal Acquisition Regulation: Ending Procurement and Forced Use of Paper Straws

AGENCY: Office of Federal Procurement Policy (OFPP), Office of Management and Budget; Department of Defense (DoD); General Services Administration (GSA); and National Aeronautics and Space Administration (NASA).

ACTION: Proposed rule.

SUMMARY: OFPP, DoD, GSA, and NASA, collectively referred to as the Federal Acquisition Regulatory Council (FAR Council), are proposing to amend the Federal Acquisition Regulation (FAR) to ensure agencies procure straws with the strength and durability of plastic in accordance with the National Strategy to End the Use of Paper Straws.

DATES: Interested parties should submit written comments to the Regulatory Secretariat Division at the address shown below on or before September 19, 2025, to be considered in the formation of the final rule.

ADDRESSES: Submit comments in response to FAR Case 2025-006 to the Federal eRulemaking portal at https://www.regulations.gov by searching for “FAR Case 2025-006”. Select the link “Comment Now” that corresponds with “FAR Case 2025-006”. Follow the instructions provided on the “Comment Now” screen. Please include your name, company name (if any), and “FAR Case 2025-006” on your attached document. If your comment cannot be submitted using https://www.regulations.gov, call or email the points of contact in the FOR FURTHER INFORMATION CONTACT section of this document for alternate instructions.

Instructions: Please submit comments only and cite “FAR Case 2025-006” in all correspondence related to this case. Comments received generally will be posted without change to https://www.regulations.gov, including any personal and/or business confidential information provided. Public comments may be submitted as an individual, as an organization, or anonymously (see frequently asked questions at https://www.regulations.gov/faq). To confirm receipt of your comment(s), please check https://www.regulations.gov, approximately two to three days after submission to verify posting.

FOR FURTHER INFORMATION CONTACT: For clarification of content, contact FAR Policy at 202-969-4075 or by email at FARPolicy@gsa.gov. For information pertaining to status, publication schedules, or alternate instructions for submitting comments if https://www.regulations.gov cannot be used, contact the Regulatory Secretariat Division at 202-501-4755 or GSARegSec@gsa.gov. Please cite “FAR Case 2025-006.”

SUPPLEMENTARY INFORMATION:

I. Background

On February 10, 2025, the President issued Executive Order (E.O.) 14208, Ending Procurement and Forced Use of Paper Straws. Section 2(c) of the E.O. directed the Assistant to the President for Domestic Policy, in coordination with relevant agencies, to issue a National Strategy to End the Use of Paper Straws (“National Strategy”) that addresses contract policies that ban or penalize plastic straw purchase or use. The National Strategy, issued in March 2025, stated that the FAR Council should amend the FAR to ensure that no Federal agency procures paper straws, consistent with the policy in E.O. 14208. As part of these efforts, the FAR should be updated to include a performance requirement that beverage straws procured and used under Federal contracts have the strength and durability of plastic straws and a provision that requires all Government contractors to represent that they do not use paper straws or penalize the use of plastic straws. The FAR Council is proposing to revise the FAR to align with the National Strategy.

II. Discussion and Analysis

The FAR Council is proposing the following amendments to the FAR to implement the National Strategy:

A. Minimum Performance Requirements

The proposed rule, if finalized, would amend FAR subpart 11.3, Acceptable Material, to add a minimum Government performance requirement for straws to be procured by agencies or provided for use in agency facilities under Government contracts. The new policy to be added at FAR 11.301(c)(3) would require such straws to have the strength and durability of plastic straws.

B. Representation

This proposed rule, if finalized, would also create a new solicitation provision at FAR 52.211-XX, Ending Procurement and Forced Use of Paper Straws, to be included in solicitations for the acquisition of straws or when the resultant contract may require the contractor to provide straws for use at a Federal facility. The new provision requires the offeror to represent that it does not have policies promoting the use of paper straws or penalizing the use of plastic straws, that it will not provide paper straws in performance of the contract, and that any straws provided by the offeror in performance of this contract will have the strength and durability of plastic straws. This provision is proposed to be included in the list of provisions that are applicable to the acquisition of commercial products and commercial services.

C. Justification

FAR subpart 23.1, Sustainable Products and Services, provides procedures to ensure agencies procure sustainable products and services to the maximum extent practicable, pursuant to certain statutory purchasing preference programs. One such program is the U.S. Department of Agriculture (USDA) BioPreferred Program. It is a statutory purchasing preference program that establishes minimum biobased content standards for certain products, to include paper straws. Established under the Farm Security and Rural Investment Act of 2002 and implemented through FAR subpart 23.1, the BioPreferred Program promotes the procurement and use of biobased products across the Federal Government and includes paper straws among its designated product categories. Under this program, agencies are generally required to give procurement preference to designated biobased products unless the item is not reasonably available, fails to meet performance standards, or is not cost effective. Per FAR 23.103(a)(1), procuring sustainable products and services is considered practicable unless the sustainable product or service does not meet reasonable performance requirements. When it is not practicable, the contracting officer must obtain a written justification from the requiring activity and include it in the contract file (see FAR 23.104(a)). This proposed rule adds language at FAR 11.301(c)(3) to make clear that paper straws do not meet the Government's reasonable performance requirement, which serves as the written justification required by FAR 23.104(a).

III. Applicability to Contracts at or Below the Simplified Acquisition Threshold (SAT) and for Commercial Products (Including Commercially Available Off-the-Shelf (COTS) Items) or for Commercial Services

This rule proposes to add a new solicitation provision at FAR 52.211-XX, Ending Procurement and Forced Use of Paper Straws. The provision would be prescribed at FAR 11.302(b) for use in solicitations for the acquisition of straws or when the resultant contract may require the contractor to provide straws for use at a Federal facility. The provision would be applicable to acquisitions at or below the SAT, acquisitions for commercial products (including COTS items), and acquisitions of commercial services. It is necessary to apply this solicitation provision to these categories of acquisitions, since straws are a COTS item and are most frequently provided in contracts for commercial services and contracts valued at or below the SAT.

IV. Expected Impact of the Rule

The data, findings, and conclusions in this section are directly drawn from the March 2025 “National Strategy To End The Use of Paper Straws,” and the supporting analysis in E.O. 14208. The rule is expected to result in a net benefit. The reduced costs, superior performance, and decreased health and safety risks associated with use of plastic straws or biobased straws with the strength and durability of plastic significantly outweigh any de minimis compliance costs or any potential transitory costs of moving away from ineffective paper straws. The facts of the case are clear and simple: paper straws cost more, are ineffective, carry increased health and safety risks, and unduly burden individuals with disabilities. The Domestic Policy Council (DPC) reached similar conclusions in their report to the President entitled “National Strategy To End The Use of Paper Straws” (March 2025). Paper straws have been forced into cafeterias at contractor and Federal Government facilities, veteran's health facilities, and military installations. Our Nation's veterans, military and their families, Government and contractor employees, and citizens or tourists visiting Government facilities deserve better than to be subjected to these costly, ineffective and hazardous paper straws. Concession contracts, such as those at the National Parks, are usually not issued using the FAR, so they are not covered by this rule.

The aggregated number of straws purchased directly or during performance of Government contracts at the locations noted above is not available to extrapolate overall saving and benefits. However, analysis of the individual metrics of cost, functionality and utility, health and safety, and equal protection all demonstrate the superior benefits of plastic straws or biobased straws with the strength and durability of plastic. In addition, the ideological policies of previous Administrations that sought to ban plastic straws in favor of forcing the use of paper straws wherever possible has had a chilling effect on those who would have otherwise preferred to apply commonsense and use plastic straws.

Cost. Market research shows that paper straws are offered for purchase at significantly higher prices than plastic straws and at incrementally higher prices than an American-made biobased alternative with the strength and durability of plastic. These price variances are present in various sizes, types, and quantities. For example, open-source commercial offerings for 7.75-inch drinking straws indicate market pricing of paper straws at a cost of three to six cents per straw while plastic straws are offered for less than a penny per straw. There is even an American-made biobased straw available with the strength and durability of plastic available for less than three cents per straw.

Functionality and utility. As noted by DPC, research supports the common-sense notion that paper straws fail to adequately perform their sole function. For example, researchers at North Carolina State University studied paper straws that are commonly found on the market and demonstrated that after less than 30 minutes of exposure to liquid, paper straws experienced a 70 to 90 percent reduction in compressive strength (Gutierrez et al., 2019). As a result, use of paper straws does not achieve the expected level of satisfaction or happiness (utility) an individual should receive from consuming their beverage.

Safety risks. As also highlighted by DPC paper straws lose their functionality and structural integrity, they can disintegrate creating a choking hazard particularly for young children. The Netherlands and Finland have both issued official warnings about the dangers of paper straws. The Netherlands Food and Consumer Product Safety Authority (NVWA) found 400 people who reported that their child or someone with special needs choked on part of a paper straw that disintegrated during use. In 15 percent of these cases, the person choking on the paper straw required intervention to dislodge the paper straw and restore normal breathing. The NVWA determined that the risk posed by paper straws is severe enough to warrant a formal caution, and it advised parents and caregivers to be careful when young children and people with disabilities use paper straws. In its analysis, the NVWA noted that paper straws are dangerous choking hazards because they “become weak and disintegrate” during the course of normal use (McLaren-Kennedy, 2022).

Health risks. Not only are paper straws ineffective and pose safety risk, they also carry increased health risks. Paper straws have been linked to alarmingly higher rates of harmful perfluoroalkylated and polyfluoroalkylated substances (PFAS) which are widely acknowledged as harmful to humans and can lead to major health problems including liver damage, thyroid disease, obesity, fertility complications and even cancer. A team of scientists at the University of Antwerp in Belgium studied 39 different brands of straws and found higher PFAS chemicals in 90 percent (18/20) of the paper straws tested.

Unduly burden individuals with disabilities. The banning of plastic straws has also disproportionally impacted the disabled community. As proclaimed by the Center for Disability Rights on its website “Our needs matter”, plastic straws are “a tool disabled people rely on, rather than a frivolous, planet-killing item that can be easily done away with.”

De minimis compliance costs. The proposed rule requires a simple representation by the offeror that it does not have policies promoting the use of paper straws or penalizing the use of plastic straws, that it will not provide paper straws in performance of the contract, and that any straws provided by the offeror in performance of this contract will have the strength and durability of plastic straws. The proposed rule also clearly establishes performance requirements related to drinking straws, and any offeror bidding on effected solicitation would be expected to meet those performance requirements.

Potential transitory costs. Transitioning away from use of paper straws may result in short-term, transitory costs. However, as noted above, the price of plastic straws is significantly lower than paper, so these costs are expected to be recouped in the near term. Potential transitory costs may be experienced by contractors that supply straws to the Federal Government, either through direct order or during performance of a contract (e.g., cafeterias, snack stands, other food services), if they have excess inventory that can no longer be used. These contractors will assess their inventories and, if necessary, identify alternative acceptable products, revise supplier agreements to purchase compliant straws, and manage any excess inventory that no longer meets the Government's minimum performance requirements (e.g., sell to other customers, donate, write-off). While there may be an initial cost to replace current inventories of paper straws to comply with this rule, these contractors should see significant savings over time since the cost of plastic straws is significantly less than the cost of paper straws. The Government will likely achieve similar savings when procuring straws directly.

V. Executive Orders 12866, 13563, and 14192

Executive Orders (E.O.s) 12866 and 13563 direct agencies to assess the costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is a significant regulatory action and, therefore, is subject to review under Section 6(b) of E.O. 12866, Regulatory Planning and Review, dated September 30, 1993.

This rule is subject to E.O. 14192, Unleashing Prosperity Through Deregulation. This rule is anticipated to be deregulatory under E.O. 14192. See discussion in the “Expected Impact of the Rule” section of this preamble.

VI. Regulatory Flexibility Act

The proposed rule, if finalized, may have a significant economic impact on a substantial number of small entities within the meaning of the Regulatory Flexibility Act 5 U.S.C. 601-612. The Initial Regulatory Flexibility Analysis (IRFA) is as follows:

1. Reasons for the action.

In accordance with Executive Order (E.O.) 14208, Ending the Procurement and Forced Use of Paper Straws, the Assistant to the President for Domestic Policy has issued a National Strategy to End the Use of Paper Straws. The National Strategy, issued in March 2025, states that OFPP, in coordination with the Federal Acquisition Regulatory Council, should amend the FAR to ensure that no Federal agency procures paper straws, consistent with the policy in E.O. 14208.

2. Objectives of, and legal basis for, the rule.

In accordance with the National Strategy, the objective of this rule is to propose amendments to the FAR to: (1) establish minimum performance requirements for straws to be procured by agencies or to be provided for use in agency facilities during performance of a contract, (2) make clear that paper straws do not meet the Government's performance requirements, and (3) require certain offerors to represent that they will not provide paper straws in performance of the contract and that any straws provided under the contract will have the strength and durability of plastic. Promulgation of the FAR is authorized by 41 U.S.C. 1121(b); 40 U.S.C. 121(c); 10 U.S.C. chapter 4 and 10 U.S.C. chapter 137 legacy provisions (see 10 U.S.C. 3016); and 51 U.S.C. 20113.

3. Description of and an estimate of the number of small entities to which the rule will apply.

This rule would apply to small manufacturers of straws and small businesses who sell straws to the Government or provide straws for use in Federal facilities under Government contracts. The potential industries impacted by this rule and applicable business size standards are identified in the following table by North American Industry Classification System (NAICS) code:

NAICS | Industry | Size standard
326199 | All other plastics product manufacturing | 750 employees.
322299 | All other converted paper product manufacturing | 500 employees.
423840 | Industrial supplies merchant wholesalers | 125 employees.
423990 | Other miscellaneous durable goods merchant wholesalers | 100 employees.
722310 | Food service contractors | $47.0 million.
722320 | Caterers | $9.0 million.
722511 | Full-service restaurants | $11.5 million.
722513 | Limited-service restaurants | $13.5 million.
722514 | Cafeterias, grill buffets, and buffets | $34.0 million.
722515 | Snack and nonalcoholic beverage bars | $22.5 million.

According to data available in the Federal Procurement Data System for fiscal years 2022 through 2024, on average, the Government awards 33,862 contracts and delivery orders to 1,853 contractors in these NAICS codes, of which 32,700 were awarded to 1,284 small businesses.

4. Description of projected reporting, recordkeeping, and other compliance requirements of the rule.

This rule would require small entities that sell straws to the Federal Government or provide straws for use in Federal facilities during performance of a contract to ensure that they are not providing paper straws and that the straws provided have the strength and durability of plastic. Solicitations for such acquisitions will require the offeror to represent by submission of their offer that they will comply with this requirement.

5. Relevant Federal rules which may duplicate, overlap, or conflict with the rule.

FAR subpart 23.1, Sustainable Products and Services, provides procedures to ensure agencies to procure sustainable products and services to the maximum extent practicable, pursuant to certain statutory purchasing preference programs. Per FAR 23.103(a)(1), procuring sustainable products and services is considered practicable unless the sustainable product or service does not meet reasonable performance requirements. When this occurs, a written justification to procure other than the sustainable product or services is required to be included in the contract file (see FAR 23.104(a)). The USDA BioPreferred Program is a statutory purchasing preference program that establishes minimum biobased content standards for certain products, to include paper straws. The proposed language at FAR 11.301(c)(3) serves as the written justification required by FAR 23.104(a) and makes clear that paper straws do not meet the Government's reasonable performance requirements.

6. Description of any significant alternatives to the rule which accomplish the stated objectives of applicable statutes and which minimize any significant economic impact of the rule on small entities.

There are no significant alternatives that would minimize the impact of the rule on small entities.

The Regulatory Secretariat Division has submitted a copy of the IRFA to the Chief Counsel for Advocacy of the Small Business Administration. A copy of the IRFA may be obtained from the Regulatory Secretariat Division. The FAR Council invites comments from small business concerns and other interested parties on the expected impact of this proposed rule on small entities.

The FAR Council will also consider comments from small entities concerning the existing regulations in subparts affected by the rule in accordance with 5 U.S.C. 610. Interested parties must submit such comments separately and should cite 5 U.S.C. 610 (FAR Case 2025-006), in correspondence.

VII. Paperwork Reduction Act

This rule does not contain any information collection requirements that require the approval of the Office of Management and Budget under the Paperwork Reduction Act (44 U.S.C. 3501-3521).

List of Subjects in 48 CFR Parts 11, 12, and 52

Government procurement.

William F. Clark,
Director, Office of Government-wide Acquisition Policy, Office of Acquisition Policy, Office of Government-wide Policy.

Therefore, OFPP, DoD, GSA, and NASA propose amending 48 CFR parts 11, 12, and 52 as set forth below:

PART 11—DESCRIBING AGENCY NEEDS

1. The authority citation for 48 CFR part 11 is revised to read as follows:

Authority: 41 U.S.C. 1121(b); 40 U.S.C. 121(c); 10 U.S.C. chapter 4 and 10 U.S.C. chapter 137 legacy provisions (see 10 U.S.C. 3016); and 51 U.S.C. 20113.

2. Amend section 11.301 by adding paragraph (c)(3) to read as follows:

11.301 Policy.

* * * * *

(c)(1) * * *

(2) * * *

(3) Straws procured by agencies or provided for use in agency facilities during performance of a contract must have the strength and durability of plastic straws. This section serves as a Governmentwide justification pursuant to 23.104(a) that paper straws identified in the USDA BioPreferred Program do not meet the Government's reasonable performance requirements for straws.

3. Revise section 11.302 to read as follows:

11.302 Solicitation provision and contract clause.

(a) Insert the clause at 52.211-5, Material Requirements, in solicitations and contracts for supplies that are not commercial products.

(b) Insert the provision at 52.211-XX, Ending Procurement and Forced Use of Paper Straws, in solicitations for the acquisition of straws or when the resultant contract may require the contractor to provide straws for use at a Federal facility.

PART 12—ACQUISITION OF COMMERCIAL PRODUCTS AND COMMERCIAL SERVICES

4. The authority citation for 48 CFR part 12 is revised to read as follows:

Authority: 41 U.S.C. 1121(b); 40 U.S.C. 121(c); 10 U.S.C. chapter 4 and 10 U.S.C. chapter 137 legacy provisions (see 10 U.S.C. 3016); and 51 U.S.C. 20113.

5. Amend section 12.301 by redesignating paragraphs (d)(10) through (14) as paragraphs (d)(11) through (15) and adding a new paragraph (d)(10) to read as follows:

12.301 Solicitation provisions and contract clauses for the acquisition of commercial products and commercial services.

* * * * *

(d) * * *

(10) 52.211-XX, Ending Procurement and Forced Use of Paper Straws, in solicitations as prescribed in 11.302(b).

* * * * *

PART 52—SOLICITATION PROVISIONS AND CONTRACT CLAUSES

6. The authority citation for 48 CFR part 52 continues to read as follows:

Authority: 41 U.S.C. 1121(b); 40 U.S.C. 121(c); 10 U.S.C. chapter 4 and 10 U.S.C. chapter 137 legacy provisions (see 10 U.S.C. 3016); and 51 U.S.C. 20113.

52.211-5 [Amended]

7. Amend section 52.211-5 by removing from the introductory text “11.302” and adding “11.302(a)” in its place.

8. Add section 52.211-XX to read as follows:

52.211-XX Ending Procurement and Forced Use of Paper Straws.

As prescribed in 11.302(b), insert the following provision:

Ending Procurement and Forced Use of Paper Straws (DATE)

(a) Requirement. Straws procured by agencies or provided for use in agency facilities during performance of a contract must have the strength and durability of plastic straws.

(b) Representation. By submission of its offer, the Offeror represents that—

(1) It does not have policies promoting the use of paper straws or penalizing the use of plastic straws;

(2) It will not provide paper straws in performance of this contract; and

(3) Any straws provided by the Offeror in performance of this contract will have the strength and durability of plastic straws.

(End of provision)

[FR Doc. 2025-13614 Filed 7-18-25; 8:45 am]

BILLING CODE 6820-EP-P